FEDERAL COMMUNICATIONS COMMISSION

[FRS 49349]

Radio Broadcasting Services; AM or FM Proposals To Change the Community of License

AGENCY: Federal Communications Commission.

ACTION: Notice.

DATES: The agency must receive comments on or before November 22, 2021.

ADDRESSES: Federal Communications Commission, 45 L Street NE, Washington, DC 20554.

FOR FURTHER INFORMATION CONTACT: Rolanda F. Smith, 202-418-2054.

SUPPLEMENTARY INFORMATION: The following applicants filed AM or FM proposals to change the community of license: MOBILE RADIO PARTNERS, INC., WVNZ(AM), Fac. ID No. 52050, From RICHMOND, VA, To EAST HIGHLAND PARK, VA, File No. BP-20210617AAA; EDUCATIONAL MEDIA FOUNDATION, KAZK(FM), Fac. ID No. 176305, From WILLCOX, AZ, To CATALINA, AZ, File No. 0000158641; FAMILY LIFE MINISTRIES, INC., WCOR-FM, Fac. ID No. 21197, From PORTVILLE, NY, To LEWIS RUN, PA, File No. 0000156015; MAGNUM COMMUNICATIONS, INC., WKBH-FM, Fac. ID No. 72206, From LA CRESCENT, MN, To ONALASKA, WI, File No. 0000157919; SSR COMMUNICATIONS, INC., NEW(FM), Fac. ID No. 203590, From CALIENTE, NV, To SANTA CLARA, UT; File No. BNPH-20181129AAC; XANA HD SOLUTIONS, LLC, NEW(FM), Fac. ID No. 203618, From KAHLOTUS, WA, To MESA, WA, File No. BNPH-20190201AAR; ITM, LLC, NEW(FM), Fac. ID No. 762221, From ESSEX, CA, To FORT MOHAVE, AZ, File No. 0000159042; SMILE FM, NEW(FM), Fac. ID No. 762506, From LAKE ISABELLA, MI, To BIG RAPIDS, MI, File No. 0000159067; SUNNYLANDS BROADCASTING, LLC, NEW(FM), Fac. ID No. 762181, From TROUT LAKE, WA, To ODELL, OR, File No. 0000159271; SMILE FM, NEW(FM), Fac. ID No. 762510, From ENGLEWOOD, TN, To DELANO, TN, File No. 0000159148; SSR COMMUNICATIONS, INC., NEW(FM), Fac. ID No. 762190, From BRUCE, MS, To TAYLOR, MS, File No. 0000157466; NYX COMMUNICATIONS, INC., NEW(FM), Fac. ID No. 762546, From CARTAGO, CA, To WILKERSON, CA, File No. 0000159324; MICHAEL RADIO COMPANY, LLC, NEW(FM), Fac. ID No. 762456, From RAWLINS, WY, To ATLANTIC CITY, WY, File No. 0000159323; JORDAN ZELLER, NEW(FM), Fac. ID No. 762370, From GACKLE, ND, To EMERADO, ND, File No. 0000158570; MICHAEL RADIO COMPANY, LLC, NEW(FM), Fac. ID No. 762448, From ALBIN, WY, To DIX, NE, File No. 0000159321; THE ERIE RADIO COMPANY, LLC, NEW(FM), Fac. ID No. 762230, From WESTFIELD, NY, To NORTH EAST TOWNSHIP, PA, File No. 0000158718; and ESTRELLA BROADCASTING, LLC, NEW(FM), Fac. ID No. 762491, From OVERGAARD, AZ, To VILLAGE OF OAK CREEK, AZ, File No. 0000159314. The full text of these applications is available electronically via the Media Bureau's Consolidated Data Base System, https://licensing.fcc.gov/prod/cdbs/pubacc/prod/app_sear.htm or Licensing and Management System (LMS), https://apps2int.fcc.gov/dataentry/public/tv/publicAppSearch.html.

Federal Communications Commission.
Nazifa Sawez,
Assistant Chief, Audio Division, Media Bureau.

[FR Doc. 2021-20611 Filed 9-22-21; 8:45 am]

BILLING CODE 6712-01-P